DEPARTMENT OF JUSTICE

National Institute of Corrections

Advisory Board Hearing

Time and Date: 8:30 a.m.-5:00 p.m. on Wednesday, August 22, 2012. 8:30 a.m.-4:00 p.m. on Thursday, August 23, 2012.

Place: U.S. Department of Justice, Main Conference Center, 7th Floor, 950 Pennsylvania Avenue NW., Washington, DC 20530, (202) 514-2000.

Matters to Be Considered: Balancing Fiscal Challenges, Performance-based Budgeting and Public Safety; reengineering population management; cost-effective strategies for meeting policy requirements and legislative mandates; innovative cost-saving strategies; identifying and responding to the future cost needs of corrections in the U.S.

Contact Person for More Information: Shaina Vanek, Executive Assistant, (202) 514-4222.

Morris L. Thigpen, Sr.,
Director, National Institute of Corrections.

[FR Doc. 2012-18464 Filed 7-30-12; 8:45 am]

BILLING CODE 4410-36-M